DEPARTMENT OF ENERGY

Federal Energy Regulatory Commission

[Docket No. AD04-4-000]

Panel Member List for Hydropower Licensing Study Dispute Resolution; Errata Notice

March 24, 2004.

On March 12, 2004, the Commission issued a Notice Requesting Applications for Panel Member List for Hydropower Licensing Study Dispute Resolution. Footnote 1 is revised to read as follows:

See § 5.14 of the final rule, which may be viewed on the Commission's Web site at http://www.ferc.gov/industries/hydropower/indus-act/ilp.asp, and see excerpted attachment describing the formal dispute resolution process.

Linda Mitry,
Acting Secretary.

[FR Doc. E4-716 Filed 3-30-04; 8:45 am]

BILLING CODE 6717-01-P